DEPARTMENT OF TRANSPORTATION

Office of the Secretary

Aviation Proceedings, Agreements Filed During the Week Ending February 4, 2000

The following Agreements were filed with the Department of Transportation under the provisions of 49 U.S.C. 412 and 414. Answers may be filed within 21 days after the filing of the application.

Docket Number: OST-2000-6839.

Date Filed: January 31, 2000.

Parties: Members of the International Air Transport Association.

Subject: PTC12 USA-EUR Fares 0043 dated 28 January 2000, Resolution 015h—USA Add-on Amounts between USA and UK, Intended effective date: 1 April 2000.

Docket Number: OST-2000-6855.

Date Filed: February 2, 2000.

Parties: Members of the International Air Transport Association.

Subject: CAC/27/Meet/008/99 dated January 10, 1999, Finally Adopted Cargo Agency Resolutions r1-14, Minutes—CAC/27/Meet/007/99 dated January 10, 1999, Intended effective date: April 1, 2000.

Dorothy W. Walker,
Federal Register Liaison.

[FR Doc. 00-3380 Filed 2-11-00; 8:45 am]

BILLING CODE 4910-62-P